DEPARTMENT OF JUSTICE

Antitrust Division

Notice Pursuant to the National Cooperative Research and Production Act of 1993—USB Flash Drive Alliance (“UFDA”)

Notice is hereby given that, on June 21, 2004, pursuant to section 6(a) of the National Cooperative Research and Production Act of 1993, 15 U.S.C. 4301 et seq. (“the Act”), USB Flash Drive Alliance (“UFDA”) has filed written notifications simultaneously with the Attorney General and the Federal Trade Commission disclosing changes in its membership status. The notifications were filed for the purpose of extending the Act's provisions limiting the recovery of antitrust plaintiffs to actual damages under specified circumstances. Specifically, Memory Expert International, Montreal, Quebec, CANADA; and Infineon Technologies Flash GmbH & Co. KG, Munich, GERMANY have been added as parties to this venture.

No other changes have been made in either the membership or planned activity of the group research project. Membership in this group research project remains open, and USB Flash Drive Alliance (“UFDA”) intends to file additional written notification disclosing all changes in membership.

On November 12, 2003, UFDA filed its original notification pursuant to section 6(a) of the Act. The Department of Justice published a notice in the Federal Register pursuant to section 6(b) of the Act on December 12, 2003 (68 FR 69423).

The last notification was filed with the Department on January 12, 2004. A notice was published in the Federal Register pursuant to section 6(b) of the Act on February 12, 2004 (69 FR 7014).

Dorothy B. Fountain,
Deputy Director of Operations, Antitrust Division.

[FR Doc. 04-16861 Filed 7-22-04; 8:45 am]

BILLING CODE 4410-11-M